DEPARTMENT OF TRANSPORTATION

Federal Aviation Administration

14 CFR Part 39

[Docket No. 2000-CE-16-AD; Amendment 39-12012; AD 2000-24-05]

RIN 2120-AA64

Airworthiness Directives; Vulcanair S.p.A. Models P 68 “OBSERVER”, P68 “OBSERVER 2”, and P68TC “OBSERVER” Airplanes

AGENCY: Federal Aviation Administration, DOT.

ACTION: Final rule.

SUMMARY: This amendment adopts a new airworthiness directive (AD) that applies to certain Vulcanair S.p.A. (Vulcanair) Models P 68 “OBSERVER”, P68 “OBSERVER 2”, and P68TC “OBSERVER” airplanes. This AD requires you to inspect the nose landing gear (NLG) upper strut for evidence of cracking (cracks or crack beginnings), and replace the NLG upper strut if you find evidence of cracking. This AD is the result of mandatory continuing airworthiness information (MCAI) issued by the airworthiness authority for Italy. The actions specified by this AD are intended to prevent failure of the NLG upper strut caused by cracking in the area of the seeger retaining ring groove, which could result in loss of control of the airplane.

DATES: This AD becomes effective on January 5, 2001.

The Director of the Federal Register approved the incorporation by reference of certain publications listed in the regulations as of January 5, 2001.

ADDRESSES: You may get the service information referenced in this AD from Vulcanair S.p.A., Via G. Poscoli, 7, 80026 Casoria (Naples), Italy; telephone: +39-081-5918111; facsimile: +39-081-5918172. You may examine this information at the Federal Aviation Administration (FAA), Central Region, Office of the Regional Counsel, Attention: Rules Docket No. 2000-CE-16-AD, 901 Locust, Room 506, Kansas City, Missouri 64106; or at the Office of the Federal Register, 800 North Capitol Street, NW, suite 700, Washington, DC.

FOR FURTHER INFORMATION CONTACT: Roman Gabrys, Aerospace Engineer, FAA, Small Airplane Directorate, 901 Locust, Room 301, Kansas City, Missouri 64106; telephone: (816) 329-4141; facsimile: (816) 329-4090.

SUPPLEMENTARY INFORMATION:

Discussion

What events have caused this AD? The Ente Nazionale per l'Aviazione Civile (ENAC), which is the airworthiness authority for Italy, recently notified FAA that an unsafe condition may exist on certain Vulcanair Models P 68 “OBSERVER”, P68 “OBSERVER 2”, and P68TC “OBSERVER” airplanes. The ENAC reports three instances of cracking of the nose landing gear (NLG) upper strut, part number 4.4173-1, in the area of the seeger retaining ring groove. Investigation of these instances reveals a work defect found during surface finishing within the groove. The groove is then susceptible to cracks after a hard landing.

What are the consequences if the condition is not corrected? Such cracking, if not detected and corrected, could result in failure of the NLG upper strut, which could result in loss of control of the airplane.

Has FAA taken any action to this point? We issued a proposal to amend part 39 of the Federal Aviation Regulations (14 CFR part 39) to include an AD that would apply to certain Vulcanair Models P 68 “OBSERVER”, P68 “OBSERVER 2”, and P68TC “OBSERVER” airplanes. This proposal was published in the Federal Register as a notice of proposed rulemaking (NPRM) on September 22, 2000 (65 FR 57296). The NPRM proposed to require you to inspect the NLG upper strut for evidence of cracking (cracks or crack beginnings), and replace the NLG upper strut if you find evidence of cracking.

Was the public invited to comment? Interested persons were afforded an opportunity to participate in the making of this amendment. No comments were received on the proposed rule or the FAA's determination of the cost to the public.

The FAA's Determination

What is FAA's final determination on this issue? After careful review of all available information related to the subject presented above, we have determined that air safety and the public interest require the adoption of the rule as proposed except for minor editorial corrections. We determined that these minor corrections:

—will not change the meaning of the AD; and

—will not add any additional burden upon the public than was already proposed.

Cost Impact

How many airplanes does this AD impact? We estimate that this AD affects 15 airplanes in the U.S. registry.

What is the cost impact of this AD on owners/operators of the affected airplanes? We estimate the following costs to accomplish the inspection:

Labor cost | Parts cost | Total cost per airplane | Total cost on U.S. airplane operators
10 workhours × $60 per hour = $600 | No parts required for the inspection | $600 per airplane | $600 × 15 = $9,000.

We estimate the following costs to accomplish any necessary replacements that will be required based on the results of the inspection. We have no way of determining the number of airplanes that may need such replacement:

Labor cost | Parts cost | Total cost per airplane
10 workhours × $60 per hour = $600 | $600 per airplane. | $1,200 per airplane

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2000-24-05 Vulcanair S.P.A. (Partenavia Costruzioni Aeronauticas S.p.A previously held Type Certificate A31EU): Amendment 39-12012; Docket No. 2000-CE-16-AD.

(a) What airplanes are affected by this AD? This AD affects Models P 68 “OBSERVER”, P68 “OBSERVER 2”, and P68TC “OBSERVER” airplanes, all serial numbers up to and including 400, that are certificated in any category.

(b) Who must comply with this AD? Anyone who wishes to operate any of the above airplanes must comply with this AD.

(c) What problem does this AD address? The actions specified by this AD are intended to prevent failure of the nose landing gear (NLG) upper strut caused by cracking in the area of the seeger retaining ring groove, which could result in loss of control of the airplane.

(d) What actions must I accomplish to address this problem? To address this problem, you must accomplish the following:

Action | Compliance time | Procedures
(1) Inspect, using magnetic particle methods, the NLG upper strut, part number 4.4173-1 (or FAA-approved equivalent part number), for evidence of cracking (cracks or crack beginnings) | Within the next 200 hours time-in-service (TIS) after January 5, 2001 (the effective date of this AD) | Do this inspection in accordance with the ACCOMPLISHMENT INSTRUCTIONS section of Vulcanair Service Bulletiin No. 98, dated July 31, 1999.
(2) If there is evidence of cracking, replace the NLG upper strut with a new NLG upper strut, part number 4.4173-1 (or FAA-approved equivalent part number) | Prior to further flight after the inspection where evidence of cracking is found | Use the procedures in the maintenance manual.
(3) Do not install any NLG upper strut, part number 4.4173-1, unless it is new from the factory, or has been inspected as required in paragraph (d)(1) of this AD and is found to not have any evidence of cracking | As of January 5, 2001 (the effective date of this AD) | Not Applicable.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roman Gabrys, Aerospace Engineer, FAA, Small Airplane Directorate, 901 Locust, Room 301, Kansas City, Missouri 64106; telephone: (816) 329-4141; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Vulcanair Service Bulletin No. 98, dated July 31, 1999. The Director of the Federal Register approved this incorporation by reference under 5 U.S.C. 552(a) and 1 CFR part 51. You can get copies from Vulcanair S.p.A., Via G. Poscoli, 7, 80026 Casoria (Naples), Italy. You can look at copies at the FAA, Central Region, Office of the Regional Counsel, 901 Locust, Room 506, Kansas City, Missouri, or at the Office of the Federal Register, 800 North Capitol Street, NW, suite 700, Washington, DC.

(i) When does this amendment become effective?This amendment becomes effective on January 5, 2001.

Note 2: The subject of this AD is addressed in Italian AD 2000-004, dated January 10, 2000.

Issued in Kansas City, Missouri, on November 20, 2000.
Marvin R. Nuss,
Acting Manager, Small Airplane Directorate, Aircraft Certification Service.

[FR Doc. 00-30317 Filed 12-1-00; 8:45 am]

BILLING CODE 4910-13-P